DEPARTMENT OF JUSTICE

Notice of Public Comment Period for Proposed Consent Decree Under CERCLA

Under 28 CFR 50.7, notice is hereby given that, for a period of 30 days, the United States will receive public comments on a proposed Consent Decree in United States v. Converters Ink Company, et al. (Civil Action No. 08CV4298), which was lodged with the United States District Court for the Northern District of Illinois on July 30, 2008.

This proposed Consent Decree was lodged simultaneously with the Complaint in this matter pursuant to Section 107 of the Comprehensive Environmental Response, Compensation, and Liability Act of 1980, 42 U.S.C. 9607, as amended (“CERCLA”), seeking reimbursement of response costs incurred or to be incurred for response actions taken at or in connection with the release or threatened release of hazardous substances at the IWI, Inc. Site, in Summit, Cook County, Illinois (“the Site”). Under the settlement, the Defendants, generators of hazardous waste disposed of at the IWI Site, will pay $2,099,852.40 to reimburse the United States for the costs of cleaning up the contaminated Site.

The Department of Justice will receive, for a period of thirty (30) days from the date of this publication, comments relating to the Decree. Comments should be addressed to the Assistant Attorney General, Environment and Natural Resources Division, and either e-mailed to pubcomment-ees.enrd@usdoj.gov or mailed to P.O. Box 7611, U.S. Department of Justice, Washington, DC 20044-7611, and should refer to United States v. Converters Ink Company, et al., D.J. Ref. 90-11-3-09355.

During the public comment period, the Decree may be examined on the following Department of Justice Web site, http://www.usdoj.gov/enrd/Consent_Decrees.html . A copy of the Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $10.75 (25 cents per page reproduction cost) payable to the U.S. Treasury or, if by e-mail or fax, forward a check in that amount to the Consent Decree Library at the stated address.

Maureen Katz,
Assistant Chief, Environmental Enforcement Section, Environment and Natural Resources Division.

[FR Doc. E8-18043 Filed 8-5-08; 8:45 am]

BILLING CODE 4410-15-P